DEPARTMENT OF STATE

[Public Notice: 12379]

Exchange Visitor Program

ACTION: Notice of a Memorandum of Cooperation (MOC) between the Government of the United States and the Government of Japan and waiver of a regulatory requirement.

SUMMARY: In accordance with the requirements of the Exchange Visitor Program regulations, the Assistant Secretary for Educational and Cultural Affairs (ECA), U.S. Department of State, has waived a regulatory provision to establish an international exchange program to promote closer cooperation between the people of Japan and the people of the United States. The program authorizes an exception under the Specialist category regulations to permit Japanese language and culture specialists to stay up to 36 months in the United States on a J-1 visa.

DATES: This action was effective on April 5, 2024.

FOR FURTHER INFORMATION CONTACT: Rebecca Pasini, Deputy Assistant Secretary for Private Sector Exchange at 2200 C Street NW, SA-5, 5th Floor, Washington, DC 20522 via telephone: (202) 826-4364, or via email: JExchanges@state.gov.

SUPPLEMENTARY INFORMATION: The United States and Japan have established a new program in accordance with existing Exchange Visitor Program regulations (22 CFR part 62), including regulations applying to the Specialist category (22 CFR 62.26). Through the program, the United States supports the purposes of the Fulbright-Hayes Act by facilitating the exchange of Japanese language and culture specialists to observe U.S. institutions and methods of practice in their educational fields and to share their specialized knowledge of Japanese education with their U.S. colleagues. The Japan Specialist Program will expand educational and cultural exchange opportunities between the people of the United States and Japan, promote the interchange of knowledge and skills among foreign and U.S. specialists, and foster long-term mutual understanding and international cooperation with U.S. communities across the United States. The MOC will authorize an exception under the Specialist category of the Exchange Visitor Program regulations to permit qualifying Japanese specialists to conduct their programs for up to 36 months in the United States on a J-1 visa.

During their program, exchange visitors from Japan will share their specialized knowledge of Japanese language and education in the United States at community based, non-profit organizations, U.S. Government offices, secondary schools, or post-secondary academic institutions offering Japanese, and similar types of institutions to increase U.S. local communities' understanding of Japan, its culture, and language. Selected experts in Japanese culture and language will gain a better understanding of U.S. culture and society and promote mutual enrichment by enhancing U.S. knowledge of Japanese culture, language, and educational systems.

Consistent with this program, the Assistant Secretary for Educational and Cultural Affairs waives certain provisions set forth in 22 CFR 62.26. Regulations at 22 CFR 62.26(i) provide that specialists shall be authorized to participate in the Exchange Visitor Program for the length of time necessary to complete the program, which shall not exceed one year. Accordingly, the Department waives subsection (i) of 22 CFR 62.26 with respect to this program to allow participants to conduct their programs for up to 36 months.

Lee A. Satterfield,
Assistant Secretary, Bureau of Educational and Cultural Affairs, Department of State.

[FR Doc. 2024-08410 Filed 4-18-24; 8:45 am]

BILLING CODE 4710-05-P